DEPARTMENT OF JUSTICE

National Institute of Corrections

Solicitation for a Cooperative Agreement: Women Offenders: Developing an Agencywide Approach

AGENCY: National Institute of Corrections, U.S. Department of Justice.

ACTION: Solicitation for a Cooperative Agreement.

SUMMARY: The National Institute of Corrections (NIC) is seeking applications from organizations, groups, or individuals to enter into a 18-month cooperative agreement to implement a blended-learning training program entitled Women Offenders: Developing an Agencywide Approach. This project will be completed in conjunction with the NIC Community Services Division and the awardee will work closely with NIC staff on all aspects of the project. To be considered, applicants must demonstrate, at a minimum, in-depth knowledge of (1) evidence-based, gender-responsive research and knowledge and practice in the policy, programming, and operation of women's jails, prisons, and community supervision agencies; (2) the preparation needed for the delivery of a blended-learning curriculum to correctional audiences and related stakeholders; (3) specific examples of expertise in directing implementation of similar projects in which blended learning was used; and (4) working collaboratively with correctional leadership and related stakeholders.

DATES: Applications must be received by August 15, 2012.

ADDRESSES: Mailed applications must be sent to: Director, National Institute of Corrections, 320 First Street NW., Room 5002, Washington, DC 20534. Applicants are encouraged to use Federal Express, UPS, or similar service to ensure delivery by the due date.

Hand delivered applications should be brought to 500 First Street NW., Washington, DC 20534. At the front security desk, dial 7-3106, ext. 0 for pickup.

Faxed or emailed applications will not be accepted. Electronic applications can only be submitted via http://www.grants.gov.

FOR FURTHER INFORMATION CONTACT: A copy of this announcement and links to the required application forms can be downloaded from the NIC Web site at http://www.nicic.gov/cooperativeagreements.

All technical or programmatic questions concerning this announcement should be directed to Maureen Buell, Correctional Program Specialist, National Institute of Corrections, Community Services Division. Ms. Buell can be reached directly at 1-800-995-6423 ext. 40121 or by email at mbuell@bop.gov. In addition to the direct reply, all questions and responses will be posted on NIC's Web site at www.nicic.gov for public review (the names of those submitting questions will not be posted). The Web site will be updated regularly and postings will remain on the Web site until the closing date of this cooperative agreement solicitation. Only questions received by 12:00 p.m. (EDT) on August 8, 2012 will be posted on the NIC Web site.

SUPPLEMENTARY INFORMATION:

Background: Established by Congress in 1974, NIC has worked closely with federal, state, and local jails, prisons, and community corrections on a broad range of initiatives. Related to this solicitation, NIC has worked diligently to develop products through collaborative partnerships that reflect research and experience relevant to justice-involved women. Within that body of work, there is an awareness that correctional policy and practice has been created to manage primarily male offenders and then applied to female populations, bypassing issues that contribute to women's pathways to criminal justice involvement, imprisonment, transition/reentry, and community supervision. The program in this solicitation, Women Offenders: Developing an Agencywide Approach, provides a roadmap for agency planners to effect policy and practice in managing the increased numbers of justice-involved women.

The delivery of this training event is designed for audiences of correctional leadership and management who influence agency policy and practice and are invested in improving systemic (i.e., improved management of correctional resources, including staff, programs, use of physical space, etc.) and individual outcomes (i.e., risk reduction/recidivism, reduction in behavioral health symptoms) in the management of women committed to the justice system. The blended-learning program will be hosted regionally.

Scope of Work: The awardee will use the existing curricula, Women Offenders: Developing an Agencywide Approach, and other adjunct materials already developed for use in the 2.5- to 3-day training events. Additionally, the awardee may add additional current and relevant materials that will enhance the quality of the program. The awardee will also ensure that any adaptations to program content and instructional strategies are previously approved by NIC and effectively contribute to meeting the program goals.

All the activities noted will be conducted collaboratively with NIC. The awardee will (1) review and become familiar with the established curriculum, lesson plans, presentation slides, participant and trainer manuals, as well as any other adjunct training materials in preparation for program delivery. Any additional materials will be shared with NIC staff to ensure relevance and appropriateness to the established curriculum. (2) Pay fees and expenses for the instructors (faculty) delivering the program. If qualified, the project director and designated project staff may be included as instructors (faculty). (3) Work with NIC to print instructor and participant materials and assume additional costs not covered by NIC related to provision of the materials. The awardee will send one full set of these materials to NIC prior to the delivery of the program for approval. (4) Establish criteria for choosing the regional training sites while considering some of the following criteria: regions that have expressed interest in hosting and have access to appropriate space, a region's or jurisdiction's desire to implement and/or enhance current practice with its female offender population, geographic consideration (accessibility by participant teams without incurring costs that cannot be covered by the host agency [NIC will not be responsible for participant travel, lodging, or per diem costs]), agencies that are interested in developing and/or enhancing correctional partnerships. (5) Select instructors (faculty) with appropriate expertise and knowledge, negotiate their work, pay their fees and expenses, and supervise their work. (6) Actively work with NIC to determine participant team eligibility and notify participant teams of program acceptance. (7) Sequence blended-learning training events to include what activities will occur before the onsite portion of the training, activities onsite, and post-training activities either virtual or onsite. The awardee will distribute materials to participant teams and faculty, deliver webinar events and engage after the training in followup tasks including ongoing, but time-limited, virtual coaching of participant teams. (8) Lead participant teams through a strategic planning process using the established curriculum. (9) Ensure that the NIC program evaluation form is both distributed to and collected from participants. The results will be shared with NIC to be used as feedback for future training.

Document Length: The length of the application should be determined by content. Brevity and clarity are encouraged.

Meetings: The cooperative agreement awardee will participate in an initial meeting with the NIC staff for a project overview and preliminary planning prior to September 15, 2012. Additionally, the awardee should plan to meet with NIC staff routinely to discuss the activities noted in the timeline (see below) during the course of the cooperative agreement. Meetings will be held no less than quarterly and may be conducted via webinar or in person as agreed upon by NIC and the awardee.

Document preparation: For all awards in which a document will be a deliverable, the awardee must follow (1) the Guidelines for Preparing and Submitting Manuscripts for Publication as found in the “General Guidelines for Cooperative Agreements,” which can be found on our Web site at http://www.nicic.gov/cooperativeagreements; and (2) NIC recommendations for producing documents using plain language, which can be found at www.nicic.gov/plainlanguage.

All final publications submitted for posting on the NIC Web site must meet the federal government's requirement for accessibility (508 PDF, 508 HTML file, or other acceptable format). The awardee must provide descriptive text interpreting all graphics, photos, graphs, and/or multimedia associated with publication. All documents developed under this cooperative agreement must be submitted in draft form to NIC for review prior to the final products being delivered.

Application Requirements: An application package must include OMB Standard Form 425, Application for Federal Assistance; a cover letter that identifies the audit agency responsible for the applicant's financial accounts as well as the audit period or fiscal year under which the applicant operates (e.g. July 1 through June 30); an outline of projected costs with the budget and strategy narratives described in the announcement. The following additional forms must also be included: OMB Standard Form 424A, Budget Information—Non-Construction Programs; OMB Standard Form 424B, Assurances—Non-Construction Programs (both available at www.grants.gov); DOJ/FBOP/NIC Certification Regarding Lobbying, Debarment, Suspension and Other Responsibility Matters; and the Drug-Free Workplace Requirements (available at http://www.nicic.gov/Downloads/General/certif-frm.pdf ).

Applications should be concisely written, typed double spaced, and reference the NIC opportunity number and title referenced in this announcement. If you are hand delivering or submitting via Fed-Ex, please include an original and three copies of your full proposal (program and budget narrative, application forms, assurances, and other descriptions). The original should have the applicant's signature in blue ink. Electronic submissions will be accepted only via www.grants.gov.

Place the following at the top of the abstract: Project title; Applicant name (Legal name of applicant organization); Mailing address; Contact phone numbers (voice, fax); Email address, and; Web site address, if applicable.

The narrative portion of the application should include, at a minimum, the following:

Opening statement: A statement indicating the applicant's understanding of the project's purpose, goals, and objectives. The applicant should state this in language that is specific and that fully explains the proposed activities.

Project Design and Implementation: This section should describe the design and implementation of the project fully as noted in the scope of work.

Project Management: Include a chart of measurable project milestones and timelines for the completion of each aspect of the project.

Capabilities and Competencies: This section should describe the qualifications of the applicant organization, any involvement of partner organizations, and the expertise of key staff to be involved in the project. Please attach resumes that document relevant knowledge, skills, and abilities to complete the project for the project principle and each staff member assigned. If the applicant organization has completed similar projects in the past, please include the URL/Web site or ISBN number for accessing a copy of the referenced work.

Budget: The budget should detail all costs for the project, show consideration for all contingencies for the project, note a commitment to work within the proposed budget, and demonstrate the ability to provide deliverables according to schedule.

Authority: Public Law 93-415.

Funds Available: NIC is seeking the applicant's best ideas regarding accomplishment of the scope of work and the related costs for achieving the goals of this solicitation. Funds may be used only for the activities that are linked to the desired outcome of the project. The funding amount will not exceed $50,000 for a period of 18 months.

Eligibility of Applicants: An eligible applicant is any state or general unit of government, private agency, educational institution, organization, individual, or team with expertise in the described areas. Applicants must have demonstrated ability to implement a project of this size and scope.

Review Considerations: Applications will be reviewed by a team. Among the criteria used to evaluate the applications are indication of a clear understanding of the project requirements as stated in the solicitation; background, experience, and expertise of the proposed project staff, including any sub-contractors; effectiveness of an innovative approach to the project; clear, concise description of all elements and tasks of the project with sufficient and realistic time frames necessary to complete the tasks; technical soundness of project design and methodology; financial and administrative integrity of the proposal, including adherence to federal financial guidelines and processes; a sufficiently detailed budget that shows consideration of all contingencies for this project and commitment to work within the proposed budget; and indication of availability to work with NIC staff.

Applications received under this announcement will be subject to a collaborative review process. The criteria for the evaluation of each application will be as follows:

Programmatic: 40 Points

Are all of the tasks and activities adequately covered? Is there a clear description of how each project activity will be accomplished, including major tasks; the strategies to be employed; required staffing; responsible parties, and other required resources? Are there any unique or exceptional approaches, techniques, or design aspects proposed that will enhance the project?

Project Management and Administration: 20 Points

Does the applicant identify reasonable objectives, milestones, or measures to track progress? Are the proposed management and staffing plans clear, realistic, and sufficient to complete the project? Is the applicant willing to meet with NIC as specified in the solicitation for this cooperative agreement?

Organizational and Project Staff Background: 30 Points

Do the skills, knowledge, and expertise of the organization and the proposed project staff demonstrate a high level of competency to complete the tasks? Does the applicant/organization have the necessary experience and organizational capacity to complete all goals of the project? If consultants and/or partnerships are proposed, is there a reasonable justification for their inclusion in the project and a clear structure to ensure effective coordination?

Budget: 10 Points

Is the proposed budget realistic, does it provide sufficient cost detail/narrative, and does it represent good value relative to the anticipated results? Does the application include a chart that aligns the budget with project activities along a timeline with quarterly benchmarks? In terms of program value, is the estimated cost reasonable in relation to the work performed and project objectives?

Note: NIC will NOT award a cooperative agreement to an applicant who does not have a Dun and Bradstreet Database Universal Number (DUNS) and is not registered in the Central Contractor Registry (CCR).

Applicants can obtain a DUNS number at no cost by calling the dedicated toll-free request line at 800-333-0505. Applicants who are sole proprietors should dial 866-705-5711 and select option #1.

Applicants may register in the CCR online at the CCR Web site: www.ccr.gov. Applicants can also review a CCR handbook and worksheet at this Web site.

Number of Awards: One

NIC Opportunity Number: 12CS19. This number should appear as a reference line in the cover letter, where indicated on Standard Form 424, and outside of the envelope in which the application is sent.

Catalog of Federal Domestic Assistance Number: 16.601.

Executive Order 12372: This project is not subject to the provisions of Executive Order 12372.

Morris L. Thigpen,
Director, National Institute of Corrections.

[FR Doc. 2012-16276 Filed 7-2-12; 8:45 am]

BILLING CODE 4410-36-P